DEPARTMENT OF TRANSPORTATION

Federal Highway Administration

Environmental Impact Statement: St. Mary Parish, Louisiana

AGENCY: Federal Highway Administration (FHWA), DOT.

ACTION: Notice of Intent.

SUMMARY: The FHWA is issuing this notice to advise the public that an Environmental Impact Statement will be prepared for a proposed road project in St. Mary Parish, Louisiana.

FOR FURTHER INFORMATION CONTACT: William C. Farr, Program Operations Manager, Federal Highway Administration, 5304 Flanders Drive, Suite A, Baton Rouge, Louisiana, 70808, Telephone: (225) 757-7615, Facsimile: (225) 757-7601.

SUPPLEMENTARY INFORMATION: The FHWA, in cooperation with the Louisiana Department of Transportation and Development (LDOTD), will prepare an Environmental Impact Statement (EIS) on a proposal to upgrade a portion of US 90 to a full “Control of Access” highway meeting current interstate standards. US 90 will become an extension of Interstate 49 ­(I-49). The proposed project passes through the municipalities of Patterson and Berwick as well as the unincorporated community of Bayou Vista, St. Mary Parish, Louisiana. The approximate distance of the project is 9 miles.

The proposed improvements would provide sufficient capacity for hurricane evacuation routes, maintain access to abutting properties, and minimize adverse environmental and community impacts.

This portion of US 90 begins east of the Wax Lake Outlet Bridge and extends to the interchange with LA 182 in Berwick, St. Mary Parish.

Alternatives to be considered include: (1) Utilization of the existing right-of-way to the maximum extent practicable to incorporate a controlled access roadway with a one-way frontage road system; and (2) Utilization of the existing right-of-way to the maximum extent practicable to incorporate a controlled access roadway with a two-way frontage road system.

Letters describing the proposed action and soliciting comments will be sent to appropriate Federal, state, and local agencies and to private organizations, including groups of individuals who have expressed interest in the project in the past. There are no plans to hold a formal scoping meeting for the proposed action. At least one public informational meeting will be held in the project area that will be affected. In addition, a Public Hearing will be held. Public notice will be given of the time and place of the public informational meeting(s) and the Public Hearing. The draft EIS will be available for public and agency review and comment prior to the Public Hearing.

To ensure that the full range of issues related to this proposed action are addressed, and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: October 31, 2000.
William A. Sussmann,
Division Administrator, FHWA, Baton Rouge, Louisiana.

[FR Doc. 00-28869 Filed 11-9-00; 8:45 am]

BILLING CODE 4910-22-M